DEPARTMENT OF TRANSPORTATION

Federal Aviation Administration

14 CFR Part 39

[Docket No. FAA-2005-20353; Directorate Identifier 2004-NM-255-AD; Amendment 39-14224; AD 2005-17-03]

RIN 2120-AA64

Airworthiness Directives; Bombardier Model CL-600-2B19 (Regional Jet Series 100 & 440) Airplanes

AGENCY: Federal Aviation Administration (FAA), Department of Transportation (DOT).

ACTION: Final rule.

SUMMARY: The FAA is adopting a new airworthiness directive (AD) for certain Bombardier Model CL-600-2B19 (Regional Jet Series 100 & 440) airplanes. This AD requires installing additional shielding of the hydraulic lines in the wing box area. This AD results from the determination that the additional hydraulic line shields will protect the lines from possible impact by tire debris if the tire tread fails. We are issuing this AD to prevent damage to the hydraulic lines and subsequent leakage from the two hydraulic systems, which could result in loss of braking capability on the affected side of the airplane, asymmetrical braking, and reduced directional control—particularly during a rejected takeoff.

DATES: Effective September 26, 2005.

The Director of the Federal Register approved the incorporation by reference of a certain publication listed in the AD as of September 26, 2005.

ADDRESSES: You may examine the AD docket on the Internet at http://dms.dot.gov or in person at the Docket Management Facility, U.S. Department of Transportation, 400 Seventh Street, SW., Nassif Building, Room PL-401, Washington, DC.

For the service information identified in this AD, contact Bombardier, Inc., Canadair, Aerospace Group, P.O. Box 6087, Station Centre-ville, Montreal, Quebec H3C 3G9, Canada.

FOR FURTHER INFORMATION CONTACT: Daniel Parillo, Aerospace Engineer, Systems and Flight Test Branch, ANE-172, FAA, New York Aircraft Certification Office, 1600 Stewart Avenue, suite 410, Westbury, New York 11590; telephone (516) 228-7305; fax (516) 794-5531.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Bombardier Model CL-600-2B19 (Regional Jet Series 100 & 440) airplanes. That NPRM was published in the Federal Register on February 15, 2005 (70 FR 7674). That NPRM proposed to require installing additional shielding of the hydraulic lines in the wing box area.

Comments

We provided the public the opportunity to participate in the development of this AD. We received no comments on the NPRM or on the determination of the cost to the public.

Change to the NPRM

Since the NPRM was issued, Bombardier has revised Service Bulletin 601R-57-021. Revision ‘D,’ dated July 11, 2005, adds a procedure to cut the shield, changes the illustration, and incorporates minor editorial changes. The technical content remains otherwise unchanged from that in Revision ‘C.’ We have revised paragraphs (f) and (g) in this final rule to indicate that accomplishment of the actions specified in revision ‘B,’ ‘C,’ or ‘D’ of the service bulletin is acceptable for compliance with the requirements of this AD.

Conclusion

We have carefully reviewed the available data and determined that air safety and the public interest require adopting the AD, with the change described previously. We have determined that this change will neither increase the economic burden on any operator nor increase the scope of the AD.

Costs of Compliance

The following table provides the estimated costs for U.S. operators to comply with this AD.

Estimated Costs
Action | Work hours | Average labor rate per hour | Parts | Cost per airplane | Number of U.S.-registered airplanes | Fleet cost
Shield installation | 16 | $65 | $0 | $1,040 | 91 | $94,640

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-17-03 Bombardier, Inc. (Formerly Canadair): Amendment 39-14224. Docket No. FAA-2005-20353; Directorate Identifier 2004-NM-255-AD.

Effective Date

(a) This AD becomes effective September 26, 2005.

Affected ADs

(b) None.

Applicability

(c) This AD applies to Bombardier Model CL-600-2B19 (Regional Jet series 100 & 440) airplanes, certificated in any category, serial numbers 7003 through 7067 inclusive, 7069 through 7165 inclusive, 7167 through 7169 inclusive, and 7171 through 7188 inclusive.

Unsafe Condition

(d) This AD was prompted by the determination that additional shielding of the hydraulic lines in the wing box area will protect the lines from possible impact by tire debris if the tire tread fails. We are issuing this AD to prevent damage to the hydraulic lines and subsequent leakage from the two hydraulic systems, which could result in loss of braking capability on the affected side of the airplane, asymmetrical braking, and reduced directional control—particularly during a rejected takeoff.

Compliance

(e) You are responsible for having the actions required by this AD performed within the compliance times specified, unless the actions have already been done.

Installation of Hydraulic Line Shields

(f) Within 24 months after the effective date of this AD, install additional shielding of the hydraulic lines in the wing box area, by doing all the actions specified in the Accomplishment Instructions of Bombardier Service Bulletin 601R-57-021, Revision D, dated July 11, 2005.

(g) Installations accomplished before the effective date of this AD according to Bombardier Service Bulletin 601R-57-021, Revision “B,” dated July 18, 2001; or Revision “C,” dated February 23, 2004; are considered acceptable for compliance with the corresponding action specified in this AD.

Alternative Methods of Compliance (AMOCs)

(h) The Manager, New York Aircraft Certification Office, FAA, has the authority to approve AMOCs for this AD, if requested in accordance with the procedures found in 14 CFR 39.19.

Related Information

(i) Canadian airworthiness directive CF-2004-20, dated October 5, 2004, also addresses the subject of this AD.

Material Incorporated by Reference

(j) You must use Bombardier Service Bulletin 601R-57-021, Revision D, dated July 11, 2005, to perform the actions that are required by this AD, unless the AD specifies otherwise. The Director of the Federal Register approved the incorporation by reference of this document in accordance with 5 U.S.C. 552(a) and 1 CFR part 51. Contact Bombardier, Inc., Canadair, Aerospace Group, P.O. Box 6087, Station Centreville, Montreal, Quebec H3C 3G9, Canada, for a copy of this service information. You may review copies at the Docket Management Facility, U.S. Department of Transportation, 400 Seventh Street SW., Room PL-401, Nassif Building, Washington, DC; on the internet at http://dms.dot.gov; or at the National Archives and Records Administration (NARA). For information on the availability of this material at the NARA, call (202) 741-6030, or go to http://www.archives.gov/federal_register/code_of_federal_regulations/ibr_locations.html.

Issued in Renton, Washington, on August 10, 2005.
Kalene C. Yanamura,
Acting Manager, Transport Airplane Directorate, Aircraft Certification Service.

[FR Doc. 05-16264 Filed 8-19-05; 8:45 am]

BILLING CODE 4910-13-P